DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than August 17, 2000.

Interested persons are invited to submit written comments regarding the subject matter of the investigations to the Director, Division of Trade Adjustment Assistance, at the address shown below, not later than August 17, 2000.

The petitions filed in this case are available for inspection at the Office of the Director, Division of Trade Adjustment Assistance, Employment and Training Administration, U.S. Department of Labor, 200 Constitution Avenue, NW., Washington, DC 20210.

Signed at Washington, DC this 24th day of July, 2000.
Grant D. Beale,
Program Manager, Division of Trade Adjustment Assistance.

Appendix—Petitions Instituted on 07/24/2000
TA-W | Subject firm (petitioners) | Location | Date of petition | Product(s)
37,896 | Knowles Electronics LLC (Comp) | Itasca, IL | 07/05/2000 | Microphones and Speaker Products.
37,897 | Osram Sylvania (Wrks) | St. Mary's, PA | 07/12/2000 | Lamps.
37,898 | Onix Process Analysis (Comp) | Angleton, TX | 07/10/2000 | Processors to Test Gas Quality.
37,899 | Hannah Hardy, Inc. (Wrks) | New York, NY | 07/13/2000 | Dresses.
37,900 | Oxy USA, Inc. (Comp) | Houston, TX | 06/26/2000 | Oil and Gas.
37,901 | Oxo Welding Equipment Co (Wrk) | Troy, OH | 07/10/2000 | Welding Guns.
37,902 | Toastmaster, Inc. (Comp) | Laurinburg, NC | 07/07/2000 | Household Clocks and Timbers.
37,903 | Toni Industries, Inc. (Wrks) | New York, NY | 07/03/2000 | Dresses.
37,904 | Staffing Solutions (Comp) | Colorado Spring, CO | 06/28/2000 | Contract Employees to Quantum Corp.
37,905 | Cooper Industries/Light (Comp) | E. Grove Village, IL | 07/10/2000 | Lighting Fixtures.
37,906 | Automation Technology (Comp) | Santa Cruz, CA | 07/03/2000 | Test Equipment—Hard Disk.
37,907 | Indiana Knitwear (Wrks) | Greenfield, IN | 06/22/2000 | Shirts, Sweatpants, Shorts.
37,908 | Sweatt Industries/Sentry (Wrks) | Odessa, TX | 07/09/2000 | Electrical Poleline—oilwell.
37,909 | Duke Energy Field Service (Comp) | Ada, OK | 07/07/2000 | Natural Gas Gathering and Processing.
37,910 | Mallinckrodt, Inc. (Comp) | Carlsbad, CA | 07/05/2000 | Critical Care Medical Equipment.
37,911 | Pillowtex Corp (Wrks) | Rockymount, NC | 07/12/2000 | Pillows.
37,912 | Aquatech, Inc. (Comp) | McMinnville, TN | 07/06/2000 | Denim Garment Finishing.
37,913 | United Filters, Inc. (Comp) | Amarillo, TX | 07/17/2000 | String Wound Filters.
37,914 | Joseph Timber LLC (Wrks) | Joseph, OR | 07/14/2000 | Dimension Lumber.
37,915 | ASAP Sewing (Wrks) | Andrews, SC | 07/12/2000 | T-Shirts.
37,916 | Alloy Machining Operation (Comp) | Miamisburg, OH | 07/12/2000 | Automatic Manifolds.

[FR Doc. 00-19879 Filed 8-4-00; 8:45 am]

BILLING CODE 4510-30-M